DEPARTMENT OF ENERGY

10 CFR Part 430

[Docket Number EERE-2015-BT-STD-0016]

Appliance Standards and Rulemaking Federal Advisory Committee: Notice of Open Meetings for the Walk-In Cooler and Freezer Refrigeration Systems Working Group To Negotiate Energy Conservation Standards

AGENCY: Office of Energy Efficiency and Renewable Energy, U.S. Department of Energy.

ACTION: Notice of public meetings.

SUMMARY: The U.S. Department of Energy (DOE) announces public meetings and webinars for the Walk-in Cooler and Freezer Refrigeration Systems Working Group. The Federal Advisory Committee Act requires that agencies publish notice of an advisory committee meeting in the Federal Register.

DATES: See SUPPLEMENTARY INFORMATION section for meeting dates.

ADDRESSES: The meetings will be held at U.S. Department of Energy, Forrestal Building, Room 8E-089, 1000 Independence Avenue SW., Washington, DC 20585 unless otherwise stated.

FOR FURTHER INFORMATION CONTACT: Ms. Ashley Armstrong U.S. Department of Energy, Office of Energy Efficiency and Renewable Energy, Building Technologies, EE-5B, 1000 Independence Avenue SW., Washington, DC 20585-0121. Telephone: (202) 586-4563. Email: asrac@ee.doe.gov.

Mr. Michael Kido, U.S. Department of Energy, Office of the General Counsel, GC-33, 1000 Independence Avenue SW., Washington, DC 20585-0121. Telephone: (202) 586-9496. Email: michael.kido@hq.doe.gov

SUPPLEMENTARY INFORMATION: DOE will host public meetings and webinars on the below dates. Meetings will be hosted in room 8E-089 at DOE's Forrestal Building, unless otherwise stated.

• September 11, 2015; 9:00 a.m.-5:00 p.m.; Engineering Analysis from the 2014 final rule. 79 FR 32049 (June 3, 2014).

• September 30, 2015; 9:00 a.m.-5:00 p.m.

• October 1, 2015; 8:00 a.m.-3:30 p.m.

• October 15, 2015; 9:00 a.m.-5:00 p.m.

• October 16, 2015; 8:00 a.m.-3:30 p.m.

• November 3, 2015; 9:00 a.m.-5:00 p.m.

• November 4, 2015; 8:00 a.m.-3:30 p.m.

• November 20, 2015; 9:00 a.m.-5:00 p.m.

• December 3, 2015; 9:00 a.m.-5:00 p.m.

• December 4, 2015; 8:00 a.m.-3:30 p.m.

• December 14, 2015; 9:00 a.m.-5:00 p.m.

• December 15, 2015; 8:00 a.m.-3:30 p.m.

The content of the public meetings will be limited to the items specified below:

• Proposed energy conservation standards for the two walk-in cooler and freezer equipment classes applicable to multiplex condensing refrigeration systems operating at medium and low temperatures and the four walk-in cooler and freezer equipment classes applicable to dedicated condensing refrigeration systems operating at low temperatures. See 10 CFR 431.306(e); and

• As part of the analysis considered underlying the proposed energy conservation standards mentioned, DOE will consider any comments (including any accompanying data) regarding the potential impacts of these six proposed standards on installers.

Meeting Address

U.S. Department of Energy, Forrestal Building, 1000 Independence Avenue SW., Washington, DC 20585, Room 8E-089. Individuals will also have the opportunity to participate by webinar. To register for the webinar and receive call-in information, please register https://www1.eere.energy.gov/buildings/appliance_standards/rulemaking.aspx/ruleid/30.

Members of the public are welcome to observe the business of the meeting and, if time allows, may make oral statements during the specified period for public comment. To attend the meeting and/or to make oral statements regarding any of the items on the agenda, email asrac@ee.doe.gov . In the email, please indicate your name, organization (if appropriate), citizenship, and contact information. Please note that foreign nationals participating in the public meeting are subject to advance security screening procedures which require advance notice prior to attendance at the public meeting. If a foreign national wishes to participate in the public meeting, please inform DOE as soon as possible by contacting Ms. Regina Washington at (202) 586-1214 or by email: Regina.Washington@ee.doe.gov so that the necessary procedures can be completed. Anyone attending the meeting will be required to present a government photo identification, such as a passport, driver's license, or government identification. Due to the required security screening upon entry, individuals attending should arrive early to allow for the extra time needed.

Due to the REAL ID Act implemented by the Department of Homeland Security (DHS) recent changes have been made regarding ID requirements for individuals wishing to enter Federal buildings from specific states and U.S. territories. Driver's licenses from the following states or territory will not be accepted for building entry and one of the alternate forms of ID listed below will be required.

DHS has determined that regular driver's licenses (and ID cards) from the following jurisdictions are not acceptable for entry into DOE facilities: Alaska, Louisiana, New York, American Samoa, Maine, Oklahoma, Arizona, Massachusetts, Washington, and Minnesota.

Acceptable alternate forms of Photo-ID include: U.S. Passport or Passport Card; an Enhanced Driver's License or Enhanced ID-Card issued by the states of Minnesota, New York or Washington (Enhanced licenses issued by these states are clearly marked Enhanced or Enhanced Driver's License); A military ID or other Federal government issued Photo-ID card.

Docket: The docket is available for review at www.regulations.gov, including Federal Register notices, public meeting attendee lists and transcripts, comments, and other supporting documents/materials. All documents in the docket are listed in the www.regulations.gov index. However, not all documents listed in the index may be publicly available, such as information that is exempt from public disclosure.

Issued in Washington, DC, on September 3, 2015.
Kathleen B. Hogan,
Deputy Assistant Secretary for Energy Efficiency, Energy Efficiency and Renewable Energy.

[FR Doc. 2015-22841 Filed 9-9-15; 8:45 am]

BILLING CODE 6450-01-P